DEPARTMENT OF TRANSPORTATION

Federal Railroad Administration

Environmental Impact Statement for Dallas-Fort Worth Core Express Service

AGENCY: Federal Railroad Administration (FRA), Department of Transportation (DOT).

ACTION: Notice of Intent to prepare an environmental impact statement (EIS).

SUMMARY: The Federal Railroad Administration (FRA) is issuing this notice to advise the public that FRA and the Texas Department of Transportation (TxDOT) intend to prepare an environmental impact statement (EIS) pursuant to the National Environmental Policy Act of 1969 (NEPA) for the impacts of constructing and operating enhanced intercity passenger rail services between Dallas and Fort Worth (Proposed Action). The EIS will evaluate route and operational alternatives for intercity passenger rail in the corridor that currently is only served by Amtrak's long distance Texas Eagle service.

DATES: FRA invites the public, governmental agencies, and all other interested parties to comment on the scope of the EIS. All such comments should be provided in writing, within ninety (90) days of the publication of this notice, at the address listed below. Comments may also be provided orally or in writing at the scoping meetings. Scoping meeting dates, times and locations, in addition to related information about the EIS for the Dallas-Fort Worth Core Express service can be found online at http://www.fra.dot.gov/Page/P0214.

ADDRESSES: Written comments on the scope of the EIS may be mailed or emailed within ninety (90) days of the publication of this notice to Michael Johnsen, Lead Environmental Protection Specialist, Office of Program Delivery, Federal Railroad Administration, 1200 New Jersey Avenue SE., MS-20, Washington, DC 20590 or Michael.johnsen@dot.gov.

FOR FURTHER INFORMATION CONTACT: Michael Johnsen, Lead Environmental Protection Specialist, Office of Program Delivery, Federal Railroad Administration, 1200 New Jersey Avenue SE., MS-20, Washington, DC 20590 or Michael.johnsen@dot.gov, or Melissa Neeley, Rail Projects Manager, Environmental Affairs Division of the Texas Department of Transportation, 118 E. Riverside Drive, Austin, Texas 78704. Telephone (512) 416-3014, email: Melissa.neeley@txdot.gov.

SUPPLEMENTARY INFORMATION: The EIS will be prepared in accordance with the National Environmental Policy Act of 1969 (NEPA) and the Council on Environmental Quality (CEQ) regulations for implementing NEPA and the FRA's Procedures for Considering Environmental Impacts as set forth in 64 FR 28545, dated May 26, 1999 (Environmental Procedures). The EIS will also address Section 106 of the National Historic Preservation Act, Section 4(f) of the U.S. Department of Transportation Act of 1966 (49 U.S.C. 303), Executive Order 12898 and USDOT Order 5610.2(a) on Environmental Justice and other applicable Federal and state laws and regulations. The EIS will address environmental issues of concern and will include:

• Describing the purpose and need for the Proposed Action.

• Describing the environment likely to be affected by the Proposed Action.

• Identifying the reasonable alternatives that satisfy the purpose and need for the Proposed Action.

• Describing the no-build or no-action alternative to serve as a baseline for comparison.

• Describing the potential environmental impacts associated with the reasonable alternatives and mitigation to address significant impacts.

FRA, in cooperation with TxDOT, will prepare the EIS for the Dallas-Fort Worth Core Express service. The Proposed Action would provide a passenger rail connection between Dallas and Fort Worth by means of an as-yet undetermined rail technology and establish connectivity with other transportation services in Dallas and Fort Worth, including two planned high-speed rail systems: Dallas-Houston (the Central Texas High Speed Rail Project) and Oklahoma City-Dallas-Fort Worth-Austin-San Antonio (the Texas Oklahoma Passenger Rail Service). As a part of the EIS, the impacts of various alternatives and route alignments will be analyzed including shared corridors with other existing linear infrastructure, such as railroads, roads, and utilities. In addition, the EIS will analyze the potential impacts of stations, power facilities and maintenance facilities to support Core Express operations. This EIS will build upon and incorporate the forthcoming findings of the Texas Oklahoma Passenger Rail Service Tier 1 EIS, and its decisions and recommendations for the Fort Worth-Dallas connection. FRA hosts Web sites for the related passenger rail projects in the region, which can be found on FRA's Web site at http://www.fra.dot.gov/Page/P0715.

The EIS will describe an analysis of technology-neutral alternatives in the study area and evaluate the specific environmental impacts of reasonable alternatives in sufficient detail to allow FRA to make decisions incorporating environmental concerns consistent with NEPA goals and procedures. The evaluation will be conducted using a combination of Geographic Information System (GIS) data, field investigations, site visits and sampling. The primary environmental resources located within the study area that may be affected are: Residential, commercial, and industrial properties; streams and floodplains; wetlands and wildlife habitat; cultural resources; protected lands; and open space. FRA and TxDOT will develop alternatives that avoid and minimize impacts to these resources. Minimization and mitigation measures will be identified within the EIS where appropriate.

In accordance with NEPA, the FRA and TxDOT invite comments and suggestions regarding the scope of the EIS from all interested parties to ensure that all issues are addressed related to this proposal, all reasonable alternatives considered, and any significant impacts are identified. Letters describing the project's NEPA process and soliciting comments will be sent to appropriate federal, state, and local agencies, Native American tribes, and private organizations who might have previously expressed or who are known to have an interest in the Proposed Action. Federal agencies with jurisdiction by law or special expertise with respect to potential environmental issues will be requested to act as a Cooperating Agency in accordance with 40 CFR 1501.16.

In coordination with FRA, TxDOT will lead the outreach activities beginning with scoping meetings (dates to be determined). Public involvement initiatives including public meetings, access to a Web site, and outreach will continue throughout the EIS process. Opportunities for public participation will be announced through mailings, notices, advertisements, press releases and a FRA-hosted EIS Web page, accessible at http://www.fra.dot.gov/Page/P0214. One or more public hearings will be held after the Draft EIS is released and made available for public and agency review. Public notice will be given for the time and place of public hearings.

Comments or questions concerning the Proposed Action and the scope of the EIS are invited from all interested parties and should be directed to the FRA at the address provided above.

Authority: 42 U.S.C. 4321 et. seq.

Issued in Washington, DC, on August 28, 2014.
Corey Hill,
Director, Office of Program Delivery.

[FR Doc. 2014-21173 Filed 9-4-14; 8:45 am]

BILLING CODE 4910-06-P